DEPARTMENT OF JUSTICE

Antitrust Division

Notice Pursuant to The National Cooperative Research and Production Act of 1993—Digital Imaging Group, Inc.

Notice is hereby given that, on December 2, 1999, pursuant to Section 6(a) of the National Cooperative Research and Production Act of 1993, 15 U.S.C. et. seq. (“the Act”), Digital Imaging Group, Inc. has filed written notifications simultaneously with the Attorney General and the Federal Trade Commission disclosing changes in its membership status. The notifications were filed for the purpose of extending the Act's provisions limiting the recovery of antitrust plaintiffs to actual damages under specified circumstances. Specifically, AXS Technologies SA, Lousanne, SWITZERLAND; Alchemedia, San Francisco, CA; Museum Informatics Project, Berkeley, CA; and Pegasus Imaging Corp., Tampa, FL have been added as parties to this venture. Also, Sound Vision, Inc., Framingham, MA; and Micrografx, Inc., Richardson, TX have been dropped as parties to this venture.

No other changes have been made in either the membership or planned activity of the joint venture. Membership in this joint venture remains open, and Digital Imaging Group, Inc. intends to file additional written notification disclosing all changes in membership.

On September 25, 1997, Digital Imaging Group, Inc. filed its original notification pursuant to Section 6(a) of the Act. The Department of Justice published a notice in the Federal Register pursuant to Section 6(b) of the Act on November 10, 1997 (62 FR 60530).

The last notification was filed with the Department on August 19, 1999. A notice has not yet been published in the Federal Register.

Constance K. Robinson,
Director of Operations, Antitrust Division.

[FR Doc. 00-10601 Filed 4-27-00; 8:45 am]

BILLING CODE 4410-11-M